DEPARTMENT OF TRANSPORTATION

Federal Aviation Administration

Finding of No Significant Impact

AGENCY: Federal Aviation Administration (FAA), Department of Transportation (DOT).

ACTION: Notice of environmental finding document: finding of no significant impact.

SUMMARY: The FAA participated as a cooperating agency with the U.S. Air Force (USAF) in preparation of the Environmental Assessment (EA) for the Falcon 1 and Falcon 9 Launch Vehicle Program (Falcon Launch Vehicle Program) at Cape Canaveral Air Force Station (CCAFS), Florida, November 2007. The Falcon Launch Vehicle Program is a commercial venture by Space Exploration Technologies, Inc. (SpaceX) to put spacecraft into orbit and supply the International Space Station (ISS) once the Space Shuttle is retired. The Proposed Action analyzed in the EA includes launching two space launch vehicles, the Falcon 1 and the Falcon 9 from Space Launch Complex (SLC) 40, while utilizing the Solid Motor Assembly and Readiness Facility (SMARF) building as a vehicle support facility, and the reentry and recovery of the Dragon reentry capsule in the ocean.

The EA analyzed the environmental consequences of conducting up to twelve Falcon 1 launches per year and up to twelve Falcon 9 launches per year starting in 2008 for the next five years from SLC 40 at CCAFS. Two alternative locations, SLC 37 and 47, were considered for the launch of the Falcon vehicles. The EA also analyzed the environmental consequences of reentry/recovery of the Dragon reentry capsule. Additionally, the EA analyzed infrastructure improvements proposed at CCAFS to support the proposed launch activities. The USAF signed a Finding of No Significant Impact (FONSI) on December 21, 2007, which stated that the Proposed Action should not have a significant environmental impact on the human environment.

SpaceX is required to obtain a launch license from the FAA to conduct launches of the Falcon 1 and Falcon 9 launch vehicles with commercial payloads. SpaceX also is required to obtain a reentry license from the FAA for the reentry of the Dragon capsule. The FAA is using the EA to support its environmental determination for a launch license for SpaceX to launch Falcon 1 and Falcon 9 vehicles at CCAFS and a reentry license for the Dragon capsule.

From its independent review and consideration, the FAA has determined that the Proposed Action addressed in this FONSI, to issue a launch or reentry license for Falcon 1 and Falcon 9 launch vehicle activities, is substantially the same as the actions analyzed in the Falcon Launch Vehicle Program EA and that FAA's comments and suggestions have been satisfied (see 1506.3(c) and FAA Order 1050.1E, 518h). The FAA formally adopts the EA and hereby incorporates the analysis to support future decisions on license applications.

After reviewing and analyzing currently available data and information on existing conditions, project impacts, and measures to mitigate those impacts, the FAA has determined that its action is not a Federal action that would significantly affect the quality of the human environment within the meaning of the National Environmental Policy Act (NEPA). Therefore, the preparation of an Environmental Impact Statement (EIS) is not required and the FAA is issuing this FONSI. The FAA made this determination in accordance with all applicable environmental laws.

For a Copy of the EA or FONSI Contact: Questions or comments should be directed to Mr. Daniel Czelusniak; FAA Environmental Specialist; Federal Aviation Administration; 800 Independence Ave., SW.; AST-I00, Suite 331; Washington, DC 20591; (202) 267-5924.

Background

Launches of launch vehicles and reentries of reentry vehicles must be licensed by the FAA pursuant to 49 U.S.C. Sections 70101-70121, the Commercial Space Launch Act. Issuing a launch or reentry license is a Federal action requiring environmental analysis by the FAA in accordance with NEPA, 42 U.S.C. 4321 et seq. Upon receipt of a complete license application, the FAA must evaluate the information and determine whether to issue a launch or reentry license to SpaceX, as appropriate. The FAA would use the analyses in the Falcon Launch Vehicle Program EA as the basis for the environmental determination of the impacts to support licensing launches of the Falcon 1 launch vehicle or the Falcon 9 launch vehicle from CCAFS and/or the reentry of the Dragon reentry vehicle. The issuance of a FONSI does not guarantee that a license will be issued by the FAA for the launch of the Falcon launch vehicles or the reentry of the Dragon capsule. Each license application also must meet all safety, risk, and indemnification requirements.

Proposed Action

SpaceX is proposing to launch the Falcon 1 and the Falcon 9 launch vehicles and the Dragon reentry capsule from CCAF8. The Falcon 1 is a two-stage, light-lift launch vehicle designed to put small spacecraft into orbit. The vehicle uses liquid oxygen (LOX) and kerosene as propellants. Some payloads are expected to be loaded with small amounts of liquid or solid propellants for use in orbit after the launch flight. The first stage is recoverable and could be reused. The second stage is not reusable and is not intended to be recovered.

The Falcon 9 is a two-stage, medium class, liquid launch vehicle designed to put space systems and satellites into orbit. Falcon 9 uses LOX and kerosene as propellants. The second stage and payloads on the Falcon 9 could use small quantities of LOX or kerosene or other propellants including nitrogen tetroxide (NTO), monomethylhydrazine (MMH), or other hydrazine propellants, and solid propellants. Both the first and second stages of the Falcon 9 are recoverable and could be reused.

The Dragon capsule could be carried as a payload on the Falcon 9 vehicle. The Dragon capsule is being developed to deliver cargo to the ISS. Following its mission to deliver cargo to the ISS, the Dragon would reenter the atmosphere on a pre-planned trajectory, would be tracked to a soft landing in the ocean, and would be recovered by a salvage vehicle. The capsule could be refurbished and reused. Locations in the Atlantic Ocean (off the east coast of Florida), the Pacific Ocean (off the coast of California), and the equatorial Pacific (near the Marshall Islands) are being considered as recovery zones.

SpaceX has proposed several infrastructure improvements to CCAFS to support the proposed launch activities, including modifications to SLC 40 and construction of a vehicle and payload processing facility. The potential environmental consequences of these connective actions are considered in this FONSI.

Under the No Action Alternative, SLC 40 would not be modified and proceed towards planned demolition. SLC 40 would not be used by the Falcon Launch Vehicle Program to meet the National Space Transportation Policy's goal of providing low-cost and reliable access to space.

Environmental Impacts

The following presents a brief summary of the environmental impacts described in the Falcon Launch Vehicle Program EA, which are incorporated by reference in this FONSI. This FONSI is based upon the impacts discussed in that EA. The potential impacts addressed in the EA have been analyzed in previous NEPA documents such as the 1998 Evolved Expendable Launch Vehicle (EELV) Final EIS and 2002 NASA Routine Payload Final EA and were used as the “generic standard” for launch vehicles and spacecrafts. Specifically, the Dragon capsule design parameters fit within the “generic” spacecraft analyzed in the Routine Payload Final EA. Also, the 2005 Programmatic Assessment for Reactivation/Reuse of Launch Complexes on CCAFS document provided background information for environmental impacts associated with the reuse/reactivation of one or more SLCs and the construction of a possible new SLC based on currently known conditions. These documents were used to compare possible impacts of the Falcon Launch Vehicle Program.

Air Quality: Any use of ozone-depleting substances would be in accordance with federal, state, and local laws regulating ozone-depleting substance use, reuse, storage, and disposal. There would be no impact on stratospheric ozone. Generator emissions associated with payload processing would be regulated as stationary sources by the Florida Department of Environmental Protection.

Emissions from launch vehicles would not substantially impact ambient air quality or endanger public health. Each launch would be considered a discrete event that would generate short-term impacts on the local air quality. Long-term effects resulting from the launches would not be expected because the launches would be infrequent and the resulting emissions would be rapidly dispersed and diluted by winds in the troposphere. The Falcon Launch Vehicle Program would not have an appreciable affect on PM2.5 standards under the current attainment status of CCAFS.

Biological Resources: Site modifications would take place in a developed area and would not entail new ground disturbance. In addition, there would be no disturbance of wetlands because there are no wetlands within the boundary of SLC 40. Biological resource impacts would not be expected from the modification, construction, or use of proposed launch and support facilities. A United States Fish and Wildlife Service (USFWS) approved light management plan would be implemented prior to construction activities and activation of the launch facility to ensure sea turtles are not impacted.

Launch activities could cause some small impacts near the launch pad associated with fire and acidic deposition, but impacts from the Falcon vehicles would be less than those from previous launch vehicles. Although Florida scrub jays, gopher tortoise, southeastern beach mice, indigo snakes and sea turtle nesting occur in the vicinity of SLC 40, post-launch monitoring conducted on previous launches concluded that launch impacts to these species are minimal. Additionally, sonic booms from launches are not expected to negatively affect the survival of any marine species. Exterior lighting at all facilities used for spacecraft processing at CCAFS would comply with established lighting policy to minimize disorienting effects on sea turtle hatchlings.

Cultural Resources: SLC 40 is not eligible for listing on the National Register of Historical Places. It is not considered a historic complex, and there are no historic properties or known archeological sites located in the immediate vicinity. No significant impacts to known historic or archeological resources would be expected as a result of the Proposed Action.

Geology and Soils: No unique geologic features of exceptional interest or mineral resources occur in the project area. Construction related to the Proposed Action would not affect geology and soils; nor would operation of the Falcon Launch Vehicle Program affect geology or soils in the vicinity of SLC 40. Potential wind and water erosion would be controlled by the development and implementation of a Storm Water Pollution Prevention Plan.

Hazardous Materials and Waste: All hazardous materials associated with the Proposed Action would be handled and disposed of per the requirements established by the Occupational Safety and Health Administration (OSHA) and the Hazardous Materials Contingency Plan developed for the Falcon Launch Vehicle Program. Any materials remaining after completion of payload processing would be properly stored for future use or disposed of in accordance with all applicable regulations. All applicable federal, state, county, and USAF rules and regulations would be followed for the proper storage, handling, and usage of hazardous materials under the Falcon Launch Vehicle Program. Furthermore, the Proposed Action would not be expected to result in significant impacts on hazardous materials management or hazardous materials emergency response.

Hazardous waste streams generated by the Falcon Launch Vehicle Program would be typical of other hazardous waste streams in Florida. The existing hazardous waste landfills would have sufficient capacity to handle the small amounts of hazardous waste expected to be generated under the Proposed Action. Furthermore, no significant impacts on hazardous waste management would be expected.

Health and Safety: Proposed refurbishment activities would comply with all federal OSHA regulations and all applicable Air Force Instructions and regulations on refurbishment safety, including AFI 32-1023, Design and Refurbishment Standards and Execution of Facility Refurbishment Projects, and Air Force Occupational Safety and Health Standards (AFOSH). Therefore, health and safety impacts during refurbishment would not be significant.

CCAFS range safety regulations ensure that the general public, launch area personnel, and foreign landmasses are provided an acceptable level of safety, and that all aspects of pre-launch and launch operations adhere to public laws. Range safety organizations review, approve, monitor, and impose safety holds, when necessary, on all pre-launch and launch operations. Health and safety impacts to personnel involved in propellant loading operations in the payload processing facilities would be minimized by adherence to OSHA and AFOSH regulations. The Proposed Action would not be expected to result in significant impacts on health and safety.

Orbital Debris: Lower stages of the Falcon would burn out and splash down in the open ocean. Upper stages that achieve Low Earth Orbit would be programmed after spacecraft separation to burn residual propellants to depletion in a vector that would result in reentry in two to three months for a soft-water landing. Upper stages going to higher orbits are not subject to controlled reentry and would contribute to orbital debris. The contribution to orbital debris from the launch of Falcon 1 and Falcon 9 vehicles and spacecraft would not be expected to have a significant impact on the environment.

Utilities: The existing water supply system at SLC 40 can support Falcon 1 and Falcon 9 launch requirements. The amount of solid waste generated under the Proposed Action would be minimal compared to the capacity of the on-base or approved off-base landfills. The electrical power needs of the Falcon Launch Vehicle Program are within the capacity of existing systems. Therefore, no significant impacts on water supply, solid waste management, or electrical power would be expected.

Transportation: A maximum of 15 personnel and 15 daily vehicle round trips would support construction and refurbishment activities, which would not constitute a significant increase in traffic volumes on roadways in the vicinity of CCAFS. A maximum of 25 personnel and 25 daily vehicle round trips would support launch operation activities, which would not constitute a significant increase in traffic volumes on key roadways within CCAFS areas.

Land Use and Visual Resources: The Proposed Action would occur primarily in areas designated for space launch activities. Operations would be consistent with both the Base General Plan and the USAF mission at CCAFS. Activities at SLC 40 and surrounding areas would be in conformance with its designated use. Therefore, no significant land use impacts would be expected.

SpaceX operational activities would have less visual impact than that of prior SLC 40 activities; therefore, no significant impacts within the flight range of the Falcon launch vehicles would be expected.

Noise: There would be a temporary increase in ambient noise levels during construction and refurbishment activities. However, there are no residential areas or sensitive receptors in the vicinity of SLC 40. Refurbishment activities would not be expected to significantly impact endangered species potentially located at SLC 40. Hearing protection would be provided if sound levels exceed OSHA limits.

Based on modeled engine noise levels for the Falcon 1, noise levels associated with the Proposed Action would not be expected to exceed the DNL threshold of 65 dBA in nearby residential areas or exceed the 85 dBA noise threshold limit value recommended for workers in an 8-hour day. Noise produced from Falcon 1 and Falcon 9 launch vehicles would be sufficiently reduced by the deluge system and would not be expected produce negative affects beyond those that have already been analyzed and experienced under ongoing launch activities. Impacts on humans from sonic booms would not be significant under the Proposed Action.

Socioeconomics: Construction and refurbishment activities would result in a temporary and minor increase in the number of on-base personnel. This increase would not represent a significant increase in the population or growth rate of the region, since most of the construction crew already live and work in the area.

The addition of up to 25 workers at CCAFS to support the Proposed Action does not represent a significant increase in the population or growth rate of the region. The Proposed Action would not significantly affect the local housing market or result in the need for new social services or support facilities. The Proposed Action would not generate negative socioeconomic impacts in the region.

Environmental Justice: Environmental impacts generated by operation, construction, and refurbishment activities for the Proposed Action would not be significant and would not adversely affect minority or low-income populations or children. The operation and refurbishment of the Proposed Action would not cause any environmental justice impacts.

Water Resources: Construction in the northeast quadrant of SLC 40 would not substantially alter the existing drainage course and adverse impacts to natural drainage would not be expected. A Storm Water Erosion and Pollution Prevention Plan would be developed and implemented to minimize impacts from erosion. SpaceX would obtain all necessary permits. Proposed construction and refurbishment activities would not be expected to disturb wetlands or affect any floodplains.

No impacts on surface water quality would occur from industrial wastewater from the deluge water system. Significant impacts would not be expected on jurisdictional waters of the United States from inadvertent discharge of deluge wastewater. When the first stage splashes down in the ocean, approximately 5 gallons of RP-l would be expelled and would dissipate within hours and would not significantly impact water quality. Water demands for the Proposed Action would be supplied by existing water distribution systems at CCAFS, and wastewater would be processed through existing wastewater handling and treatment systems at CCAFS. Water demands would have a negligible impact on these existing systems, and local and regional water resources would not be affected.

Cumulative Impacts: Cumulative impacts to biological resources, air quality, and water resources were considered in the Falcon Launch Vehicle Program EA. Some vegetative damage could occur from occasional brush fires and/or heat from the launch and acid deposition in the near-field areas. The loss of tree and shrub species and an increase of grass and sedge species could occur. Far-field vegetation should recover between launches since far-field deposition would not occur in the same area after each launch. There should be no significant impacts on terrestrial wildlife from the exhaust cloud because the cloud would remain in anyone area for only a short period of time. The implementation of a light management plan to reduce beach lighting during the nesting season should reduce adverse impacts to sea turtles.

Because the atmospheric emissions associated with launch programs are brief and sporadic, the long-term cumulative air quality impacts in the lower atmosphere would not be expected to be significant. Short-term cumulative air quality impacts would not occur because launches for the various programs would not be conducted at the same time. The relatively small emissions associated with ground support operations would have little incremental and cumulative impact in an area that presently meets air quality standards. No long-term adverse air impacts would be expected from refurbishment activities. No cumulative impacts to water resources would be expected.

Determination: An analysis of the Proposed Action has concluded that there would be no significant short-term or long-term effects to the environment or surrounding populations. After careful and thorough consideration of the facts herein, the undersigned finds that the proposed Federal action is consistent with existing national environmental policies and objectives set forth in Section 101(a) of the NEPA and other applicable environmental requirements and will not significantly affect the quality of the human environment or otherwise include any condition requiring consultation pursuant to Section I 02(2)( c) of NEPA. Therefore, an Environmental Impact Statement for the Proposed Action is not required.

Issued in Washington, DC on: January 15, 2009.
George Nield,
Associate Administrator for Commercial Space Transportation.

[FR Doc. E9-1974 Filed 1-29-09; 8:45 am]

BILLING CODE 4910-13-P